NUCLEAR REGULATORY COMMISSION

[Docket Nos. 72-1031, 72-44, 50-528, 50-529, and 50-530; NRC-2019-0161]

Arizona Public Service Company; Palo Verde Nuclear Generating Station; Independent Spent Fuel Storage Installation

AGENCY: Nuclear Regulatory Commission.

ACTION: Environmental assessment and finding of no significant impact; issuance.

SUMMARY: The U.S. Nuclear Regulatory Commission (NRC) is considering an exemption request from Arizona Public Service Company to allow the Palo Verde Nuclear Generating Station to load spent fuel with a larger pellet diameter than is authorized in the MAGNASTOR® storage cask system in Certificate of Compliance No. 1031, Amendment No. 7. The NRC prepared an environmental assessment (EA) documenting its finding. The NRC concluded that the proposed action would have no significant environmental impact. Accordingly, the NRC staff is issuing a finding of no significant impact (FONSI) associated with the proposed exemption.

DATES: The EA and FONSI referenced in this document are available on August 19, 2019.

ADDRESSES: Please refer to Docket ID NRC-2019-0161 when contacting the NRC about the availability of information regarding this document. You may obtain publicly-available information related to this document using any of the following methods:

• Federal Rulemaking Website: Go to https://www.regulations.gov/ and search for Docket ID NRC-2019-0161. Address questions about NRC docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Bernard White, Office of Nuclear Material Safety and Safeguards, U.S. Nuclear Regulatory Commission, Washington, DC 20555; telephone: 301-415-6577; email: Bernard.White@nrc.gov.

SUPPLEMENTARY INFORMATION:

I. Introduction

The NRC is reviewing an exemption request from Arizona Public Service Company, dated July 5, 2019 (ADAMS Accession No. ML19186A449). Arizona Public Service Company is requesting an exemption from the requirements of title 10 of the Code of Federal Regulations (10 CFR) §§ 72.212(a)(2), 72.212(b)(3), 72.212(b)(5)(i), 72.214, and the portion of 72.212(b)(11) that requires compliance with the terms, conditions, and specifications of the Certificate of Compliance No. 1015, for spent fuel storage at the Palo Verde Nuclear Generating Station independent spent fuel storage installation.

Specifically, Arizona Public Service Company requested an exemption to load and store Combustion Engineering spent fuel with a larger maximum pellet diameter than authorized in Amendment No. 7 of Certificate of Compliance No. 1031 for the MAGNASTOR® storage system.

II. Environmental Assessment Summary

Under the requirements of §§ 51.21 and 51.30(a), the NRC staff developed an environmental assessment (ADAMS Accession No. ML19205A273) to evaluate the proposed action, which is for the NRC to grant an exemption to Arizona Public Service Company to allow loading and storage of spent fuel with a larger maximum pellet diameter than that is authorized in Amendment No. 7 of the NAC International (NAC) CoC No. 1031 for the MAGNASTOR® storage system.

The EA defines the NRC's proposed action (i.e., to grant the exemption request per 10 CFR 72.7) and the purpose of and need for the proposed action. Evaluations of the potential environmental impacts of the proposed action and alternatives to the proposed action are presented, followed by the NRC's conclusion.

This EA evaluates the potential environmental impacts of granting the exemption to load and store spent fuel with a maximum pellet diameter than authorized in Certificate of Compliance No. 1031, Amendment No. 7 in the MAGNASTOR® storage system at the Palo Verde Nuclear Generating Station site. The potential environmental impact of using NRC-approved storage casks was initially analyzed in the EA for the rulemaking to provide for the storage of spent fuel under a general license on July 18, 1990 (55 FR 29181). The environmental assessment for the MAGNASTOR® storage system, Certificate of Compliance No. 1031, Amendment No. 7, (82 FR 25931) tiers off the environmental assessment for the 1990 final rule.

NRC staff finds that the environmental effects from this exemption request is bounded by the EA for Certificate of Compliance No. 1031, Amendment No. 7, and that there will be no significant environmental impacts from the proposed action. The proposed action does not change the types or quantities of effluents that may be released offsite, and it does not increase occupational or public radiation exposure. The request by Arizona Public Service Company to increase the pellet diameter without a corresponding increase in the uranium oxide loading of fuel assemblies will not result an inadvertent criticality event. Therefore, there are no significant radiological environmental impacts associated with the proposed action. There is no change to the non-radiological effluents. The proposed action will take place within the site boundary and does not have other environmental impacts. Thus, the proposed action will not have a significant effect on the quality of the human environment. Therefore, the environmental impacts of the proposed action are no greater than those described in the EA for the rulemaking to add the MAGNASTOR® storage system, Certificate of Compliance No. 1031, Amendment No. 7 to 10 CFR 72.214.

III. Finding of No Significant Impact

The NRC staff has prepared an EA and associated FONSI in support of the proposed action. The NRC staff has concluded that the proposed action, for the NRC to grant the exemption requested for Palo Verde Nuclear Generating Station, allowing the use of a larger pellet diameter in Amendment No. 7 for the MAGNASTOR® storage system, will not significantly impact the quality of the human environment, and that the proposed action is the preferred alternative. The environmental impacts are bounded by the previous EA for the rulemaking to add the Certificate of Compliance No. 1031, Amendment No. 7, cask system to 10 CFR 72.214.

The NRC provided the Arizona Department of Health Services-Bureau of Radiation Control a draft copy of this EA for review in an email dated July 24, 2019 (ADAMS Accession No. ML19205A323).

The NRC staff has determined that this exemption would have no impact on historic and cultural resources or ecological resources and therefore no consultations are necessary under Section 7 of the Endangered Species Act and Section 106 of the National Historic Preservation Act, respectively.

Therefore, the NRC finds that there are no significant environmental impacts from the proposed action, and that preparation of an environmental impact statement is not warranted. Accordingly, the NRC has determined that a FONSI is appropriate.

Dated at Rockville, Maryland, this 19th day of August, 2019.
For the Nuclear Regulatory Commission.
John B. McKirgan,
Chief, Spent Fuel Licensing Branch, Division of Spent Fuel Management, Office of Nuclear Material Safety and Safeguards.

[FR Doc. 2019-18161 Filed 8-22-19; 8:45 am]

BILLING CODE 7590-01-P